DEPARTMENT OF ENERGY

Federal Energy Regulatory Commission

Sunshine Act Meeting

FEDERAL REGISTER CITATION OF PREVIOUS ANNOUNCEMENT: June 26, 2000, 65 FR 39384.

PREVIOUSLY ANNOUNCED TIME AND DATE OF MEETING: June 28, 2000, 10:00 a.m.

CHANGE IN THE MEETING: The following Docket Nos. and Company has been added to Item CAE-1 and on the Agenda scheduled for the June 28, 2000 meeting.

Item No. | Docket No. and company
CAE-1 | ER00-2068-000, ER00-1379-000, ER00-1386-000 and ER00-1387-000, Ameren Services Company.

David P. Boergers,
Secretary.

[FR Doc. 00-16877 Filed 6-29-00; 8:45 am]

BILLING CODE 6717-01-M